DEPARTMENT OF ENERGY

Federal Energy Regulatory Commission

Combined Notice of Filings #1

Take notice that the Commission received the following electric rate filings:

Docket Numbers: ER19-1073-002; ER10-2895-019; ER14-1964-010; ER16-287-005; ER13-2143-012; ER10-3167-011; ER13-203-011; ER17-482-004; ER19-1074-002; ER11-3942-020; ER11-2293-020; ER10-2917-019; ER19-1075-002; ER19-529-002; ER19-2429-001; ER13-1613-012; ER10-2918-020; ER10-2920-019; ER11-3941-017; ER10-2921-019; ER10-2922-019; ER13-1346-011; ER10-2966-019; ER11-2383-014; ER19-1076-002; ER12-161-019; ER12-2068-015; ER12-645-020; ER10-2460-015; ER10-2461-016; ER12-682-016; ER10-2463-015; ER11-2201-019; ER13-1139-019; ER13-17-013; ER14-25-015; ER14-2630-012; ER12-1311-015; ER10-2466-016; ER11-4029-015.

Applicants: Alta Wind VIII, LLC, Bear Swamp Power Company LLC, BIF II Safe Harbor Holdings LLC, BIF III Holtwood LLC, Black Bear Development Holdings, LLC, Black Bear Hydro Partners, LLC, Black Bear SO, LLC, BREG Aggregator LLC, Brookfield Energy Marketing Inc., Brookfield Energy Marketing LP, Brookfield Energy Marketing US LLC, Brookfield Power Piney & Deep Creek LLC, Brookfield Renewable Energy Marketing US LLC, Brookfield Renewable Trading and Marketing LP, Brookfield Smoky Mountain Hydropower LLC, Brookfield White Pine Hydro LLC, Carr Street Generating Station, L.P., Erie Boulevard Hydropower, L.P., Granite Reliable Power, LLC, Great Lakes Hydro America, LLC, Hawks Nest Hydro LLC, Mesa Wind Power Corporation, Rumford Falls Hydro LLC, Safe Harbor Water Power Corporation, Windstar Energy, LLC, Bishop Hill Energy LLC, Blue Sky East, LLC, California Ridge Wind Energy LLC, Canadaigua Power Partners, LLC, Canadaigua Power Partners II, LLC, Erie Wind, LLC, Evergreen Wind Power, LLC, Evergreen Wind Power III, LLC, Imperial Valley Solar 1, LLC, Niagara Wind Power, LLC, Prairie Breeze Wind Energy LLC, Regulus Solar, LLC, Stetson Wind II, LLC, Vermont Wind, LLC, Stetson Holdings, LLC.

Description: Notice of Change in Status of the Brookfield Companies and TerraForm Companies, et. al.

Filed Date: 10/30/19.

Accession Number: 20191030-5243.

Comments Due: 5 p.m. ET 11/20/19.

Docket Numbers: ER19-2388-000.

Applicants: Marcus Hook 50, L.P.

Description: Report Filing: Refund Report to be effective N/A.

Filed Date: 10/30/19.

Accession Number: 20191030-5171.

Comments Due: 5 p.m. ET 11/20/19.

Docket Numbers: ER20-244-000.

Applicants: SR South Loving LLC.

Description: § 205(d) Rate Filing: Notice of Non-Material Change in Status & SE Category Seller Change to be effective 10/31/2019.

Filed Date: 10/30/19.

Accession Number: 20191030-5205.

Comments Due: 5 p.m. ET 11/20/19.

Docket Numbers: ER20-245-000.

Applicants: Sun Streams, LLC.

Description: Baseline eTariff Filing: MBR Application to be effective 10/31/2019.

Filed Date: 10/30/19.

Accession Number: 20191030-5207.

Comments Due: 5 p.m. ET 11/20/19.

Docket Numbers: ER20-246-000.

Applicants: Windhub Solar A, LLC.

Description: Initial rate filing: MBR Application to be effective 10/31/2019.

Filed Date: 10/30/19.

Accession Number: 20191030-5210.

Comments Due: 5 p.m. ET 11/20/19.

Docket Numbers: ER20-247-000.

Applicants: Evergy Metro, Inc.

Description: § 205(d) Rate Filing: Notice of Succession Filing, Rate Schedules, Agreements & Tariffs to be effective 12/30/2019.

Filed Date: 10/30/19.

Accession Number: 20191030-5213.

Comments Due: 5 p.m. ET 11/20/19.

Docket Numbers: ER20-248-000.

Applicants: Southern California Edison Company.

Description: § 205(d) Rate Filing: 2020 RSBAA Update Filing to be effective 1/1/2020.

Filed Date: 10/31/19.

Accession Number: 20191031-5002.

Comments Due: 5 p.m. ET 11/21/19.

Docket Numbers: ER20-249-000.

Applicants: Deseret Generation & Transmission Co-operative, Inc.

Description: § 205(d) Rate Filing: OATT Attachment K—WestConnect Regional to be effective 1/1/2020.

Filed Date: 10/31/19.

Accession Number: 20191031-5025.

Comments Due: 5 p.m. ET 11/21/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 31, 2019.
Nathaniel J. Davis, Sr.,
Deputy Secretary.

[FR Doc. 2019-24203 Filed 11-5-19; 8:45 am]

BILLING CODE 6717-01-P